DEPARTMENT OF JUSTICE

[OMB Number 1105-0092]

Agency Information Collection Activities; Proposed eCollection eComments Requested

AGENCY: September 11th Victim Compensation Fund, Department of Justice.

ACTION: 30-day notice.

SUMMARY: The Department of Justice (DOJ), Civil Division, September 11th Victim Compensation Fund, will be submitting the following information collection request to the Office of Management and Budget (OMB) for review and approval in accordance with the Paperwork Reduction Act of 1995. This proposed information collection was previously published in the Federal Register at 80 FR 28707 on May 19, 2015, allowing for a 60-day comment period.

DATES: Comments are encouraged and will be accepted for an additional 30 days until May 9, 2016.

FOR FURTHER INFORMATION CONTACT: If you have additional comments on the estimated public burden or associated response time, suggestions, or need a copy of the proposed information collection instrument with instructions or additional information please call Jordana Feldman, 212-619-3209. Written comments concerning this information collection should be sent to the Office of Information and Regulatory Affairs, Office of Management and Budget, Attention: Department of Justice Desk Officer. The best way to ensure your comments are received is to email them to oira_submissions@omb.eop.gov. All comments should reference the 8 digit OMB number for the collection or the title of the collection.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reauthorization of a currently approved collection.

(2) Title of the Form/Collection: VCF Claim Form.

(3) Agency form number, if any, and the applicable component of the Department of Justice sponsoring the collection: Form Number: N/A. Civil Division.

(4) Affected public who will be asked or required to respond, as well as a brief abstract:

Primary: The September 11th Victim Compensation Fund of 2001 provides compensation to any individual (or beneficiary of a deceased individual) who was physically injured or killed as a result of the terrorist-related aircraft crashes of September 11, 2001. On December 18, 2015, President Obama signed into law a bill reauthorizing the James Zadroga 9/11 Health and Compensation Act of 2010. This includes the reauthorization of the September 11th Victim Compensation Fund (“VCF”) for five years from the date the legislation was signed and includes other important changes to the VCF's policies and procedures for evaluating claims and calculating each claimant's loss and the documents required to submit claims, including claim forms and accompanying materials.

The information collected from the VCF Claim Form will be used to determine whether claimants will be eligible for compensation from the Fund, and if so, the amount of compensation they will be awarded. The Form consists primarily of two main sections: Eligibility and Compensation.

The Eligibility section seeks the information required by the Zadroga Act to determine whether a claimant is eligible for the Fund, including information related to: Participation in lawsuits related to September 11, 2001; presence at a 9/11 crash site between September 11, 2001 and May 30, 2002; and physical harm suffered as a result of the air crashes and/or debris removal.

The Compensation section seeks the information required by the Zadroga Act to determine the amount of compensation for which the claimant is eligible. Specifically, the section seeks information regarding the out-of-pocket losses (including medical expenses) incurred by the claimant that are attributable to the 9/11 air crashes or debris removal; the claimant's loss of earnings or replacement services that are attributable to the 9/11 air crashes or debris removal; and any collateral source payments (such as insurance payments) that the claimant received as a result of the terrorist-related aircraft crashes of September 11, 2001 or debris removal efforts.

(5) An estimate of the total number of respondents and the amount of time estimated for an average respondent to respond: It is estimated that there are 33,000 total potential claimants who may respond to this form. Of those, the VCF has already received forms from 22,836 respondents who submitted claims using the former version of the claim form. The estimated total number of respondents for this form is therefore 10,164 over the next five (5) years, through December 18, 2020. It is estimated that respondents will complete the paper form in an average of 2 hours and the electronic form in an average of 1.5 hours.

(6) An estimate of the total public burden (in hours) associated with the collection: There are an estimated 3,049 annual total burden hours associated with this collection.

If additional information is required contact: Jerri Murray, Department Clearance Officer, United States Department of Justice, Justice Management Division, Policy and Planning Staff, Two Constitution Square, 145 N Street NE., 3E.405B, Washington, DC 20530.

Dated: April 5, 2016.
Jerri Murray,
Department Clearance Officer for PRA, U.S. Department of Justice.

[FR Doc. 2016-08091 Filed 4-7-16; 8:45 am]

BILLING CODE 4410-12-P